DEPARTMENT OF HOUSING AND URBAN DEVELOPMENT

[Docket No. FR-5918-N-01]

60-Day Notice of Proposed Information Collection: Promise Zones Reporting

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 19, 2016.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Brooke M. Bohnet, Senior Management Analyst, Field Operations Division, Field Policy and Management, Department of Housing and Urban Development, 451 7th Street SW., Washington, DC 20410; email Brooke Bohnet at Brooke.M.Bohnet@hud.gov or telephone 202-402-6693. This is not a toll-free number. Persons with hearing or speech impairments may access this number through TTY by calling the toll-free Federal Relay Service at (800) 877-8339. Copies of available documents submitted to OMB may be obtained from Ms. Bohnet.

SUPPLEMENTARY INFORMATION: This notice informs the public that HUD is seeking approval from OMB for the information collection described in Section A.

A. Overview of Information Collection

Title of Information Collection: Promise Zones Reporting.

OMB Approval Number: 2501-New.

Type of Request: New Collection.

Form Number: HUD-XXXX Monthly Grant Report.

HUD-XXXX Quarterly and Annual Strategic Plan.

HUD-XXXX Non-Federal Investments.

HUD-XXXX New Neighborhood Amenities.

HUD-XXXX Annual Report.

Description of the Need for the Information and Proposed Use: This collection is a new collection that will be collecting information for reporting purposes. This collection will reference the actual application collection that was approved under OMB 2501-033. HUD designated fourteen communities as urban Promise Zones between 2014 and 2016. Under the Promise Zones initiative, the federal government will invest and partner with high-poverty urban, rural, and tribal communities to create jobs, increase economic activity, improve educational opportunities, leverage private investment, and reduce violent crime. Additional information about the Promise Zones initiative can be found at www.hud.gov/promisezones, and questions can be addressed to promisezones@hud.gov. The federal administrative duties pertaining to these designations shall be managed and executed by HUD for ten years from the designation dates pursuant The Promise Zone Initiative supports HUD's responsibilities under sections 2 and 3 of the HUD Act, 42 U.S.C. 3531-32, to assist the President in achieving maximum coordination of the various federal activities which have a major effect upon urban community, suburban, or metropolitan development; to develop and recommend the President policies for fostering orderly growth and development of the Nation's urban areas; and to exercise leadership, at the direction of the President, in coordinating federal activities affecting housing and urban development. To facilitate communication between local and federal partners, HUD proposes that Promise Zone Lead Organizations submit minimal reports and documents to support collaboration and problem solving between local and federal partners. These reports will also assist in communications and stakeholder engagement, both locally and nationally.

Respondents (i.e. affected public): Fourteen Promise Zone Lead Organizations.

Information collection | Number of respondents | Frequency of response | Responses per annum | Burden hour per response | Annual burden hours | Hourly cost per response | Annual cost
Monthly Federal Grants Update | 14 | 12 | 168 | 2 | 336 | $30 | $10,080
Quarterly Report: Quarterly and Annual Strategic Plan | 14 | 4 | 56 | 10 | 560 | 30 | 16,800
Quarterly Report: Non-Federal Investments | 14 | 4 | 56 | 15 | 840 | 30 | 25,200
Quarterly Report: New Neighborhood Amenities | 14 | 4 | 56 | 4 | 224 | 30 | 6,720
Annual Report | 14 | 4 | 56 | 20 | 1,120 | 30 | 33,600
Public Communications Materials | 14 | 4 | 56 | 5 | 280 | 30 | 8,400
Total |  |  |  |  |  |  | 100,800

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Dated: July 15, 2016.
Nelson R. Bregón,
Associate Assistant Deputy Secretary for Office Field Policy Management.

[FR Doc. 2016-17299 Filed 7-20-16; 8:45 am]

BILLING CODE 4210-67-P